DEPARTMENT OF HOMELAND SECURITY

Coast Guard

33 CFR Part 165

CGD01-03-023

RIN 1625-AA00

Safety Zone; Marblehead Fourth of July Fireworks, Marblehead, MA

AGENCY: Coast Guard, DHS.

ACTION: Temporary final rule.

SUMMARY: The Coast Guard is establishing a temporary safety zone for the Marblehead Fourth of July Fireworks on July 4, 2003, in Marblehead, Massachusetts. The safety zone temporarily closes all waters in the vicinity of the Marblehead Causeway in a 400-yard radius of the fireworks barge located at position 42°29′11″ N, 70°51′01″ W. The safety zone is necessary to protect the life and property of the maritime public from the hazards posed by a fireworks display. The safety zone will prohibit entry into or movement within this portion of Marblehead Harbor during its effective period.

DATES: This rule is effective from 8 p.m. until 10:30 p.m. on July 4, 2003.

ADDRESSES: Documents as indicated in this preamble are available for inspection or copying at Marine Safety Office Boston, 455 Commercial Street, Boston, MA between the hours of 8 a.m. and 3 p.m., Monday through Friday, except Federal holidays.

FOR FURTHER INFORMATION CONTACT: Chief Petty Officer Daniel Dugery, Marine Safety Office Boston, Waterways Management Division, at (617) 223-3000.

SUPPLEMENTARY INFORMATION:

Regulatory History

Pursuant to 5 U.S.C. 553, a notice of proposed rulemaking (NPRM) was not published for this regulation. Good cause exists for not publishing a NPRM and for making this regulation effective in less than 30 days after Federal Register publication. Any delay encountered in this rule's effective date would be contrary to public interest since the safety zone is needed to prevent traffic from transiting a portion of Marblehead Harbor, Massachusetts, during the fireworks event and to provide for the safety of life on navigable waters. Additionally, the rule should have a negligible impact on vessel transits due to the fact that vessels will only be limited from the area for 2 and one half hours, vessels will only be prohibited from entering the Southern fifth of the Harbor, and vessels can still transit in other areas in the majority of Marblehead Harbor and Massachusetts Bay during the event.

Background and Purpose

The Marblehead Fireworks Committee is holding a fireworks display to celebrate the July 4th holiday. This regulation establishes a safety zone in the vicinity of the Marblehead Causeway within a 400-yard radius of the fireworks barge located at position 42°29′11″ N, 70°51′01″ W. The safety zone is in effect from 8 p.m. until 10:30 p.m. on July 4, 2003.

This safety zone is necessary to protect the life and property of the maritime public from the dangers posed by this event. It will protect the public by prohibiting entry into or movement within this portion of Marblehead Harbor where an explosion and/or falling debris hazard may exist.

Discussion of Rule

The safety zone is in effect from 8 p.m. until 10:30 p.m. July 4, 2003. Marine traffic may transit safely outside of the safety zone in the majority of Marblehead Harbor during the event, only the Southern fifth is encompassed by this zone.

Because of the limited time and because the zone leaves the majority of Marblehead Harbor open for navigation, the Captain of the Port anticipates minimal negative impact on vessel traffic due to this event. Public notifications will be made prior to the effective period via local notice to mariners and marine information broadcasts.

Regulatory Evaluation

This rule is not a “significant regulatory action” under section 3(f) of Executive Order 12866, Regulatory Planning and Review, and does not require an assessment of potential costs and benefits under section 6(a)(3) of that Order. The Office of Management and Budget has not reviewed it under that Order. It is not significant under the regulatory policies and procedures of the Department of Homeland Security (DHS).

The Coast Guard expects the economic impact of this rule to be minimal enough that a full Regulatory Evaluation under the regulatory policies and procedures of DHS is unnecessary. Although this rule will prevent traffic from transiting a portion of Marblehead Harbor during the effective period, the effects of this rule will not be significant for several reasons: vessels will only be excluded from the area of the safety zone for 2 and one half hours, vessels will be able to operate in the majority of the Harbor during this time, and advance notifications will be made to the local maritime community by marine information broadcasts and Local Notice to Mariners.

Small Entities

Under the Regulatory Flexibility Act (5 U.S.C. 601-612), the Coast Guard considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which may be small entities: the owners or operators of vessels intending to transit or anchor in the vicinity of the Marblehead Causeway on July 4, 2003. This safety zone will not have a significant economic impact on a substantial number of small entities for the reasons described under the Regulatory Evaluation section.

If you think that your business, organization, or governmental jurisdiction qualifies as a small entity and that this rule would have a significant economic impact on it, please submit a comment (see ADDRESSES) explaining why you think it qualifies and how and to what degree this rule would economically affect it.

Collection of Information

This rule would call for no new collection of information under the Paperwork Reduction Act of 1995 (44 U.S.C. 3501-3520).

Federalism

The Coast Guard analyzed this rule under Executive Order 13132, Federalism, and has determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal government having first provided the funds to pay those costs. This rule would not impose an unfunded mandate.

Taking of Private Property

This rule would not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

The Coast Guard analyzed this rule under Executive Order 13045, Protection of Children from Environmental Health Risks and Security Risks. This rule is not an economically significant rule and does not pose an environmental risk to health or risk to security that may disproportionately affect children.

Environment

The Coast Guard considered the environmental impact of this rule and concluded that, under figure 2-1, (34)(g), of Commandant Instruction M16475.lD, this rule is categorically excluded from further environmental documentation. A “Categorical Exclusion Determination” is available in the docket where indicated under ADDRESSES.

List of Subjects in 33 CFR Part 165

Harbors, Marine security, Navigation (water), Reporting and record keeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; Department of Homeland Security Delegation No. 0170.1.

2. Add § 165.T01-023 to read as follows:

§ 165.T01-023 Safety Zone; Marblehead Fourth of July Fireworks—Marblehead, Massachusetts

(a) Location. The following area is a safety zone:

All waters in the vicinity of the Marblehead Causeway in a 400-yard radius of the fireworks barge located at position 42°29′11″ N, 70°51′01″ W.

(b) Effective date. This section is effective from 8 p.m. until 10:30 p.m. on July 4, 2003.

(c) Regulations. (1) In accordance with the general regulations in § 165.23 of this part, entry into or movement within this zone will be prohibited unless authorized by the Captain of the Port Boston.

(2) All vessel operators shall comply with the instructions of the COTP or the designated on-scene U.S. Coast Guard patrol personnel. On-scene Coast Guard patrol personnel include commissioned, warrant, and petty officers of the Coast Guard on board Coast Guard, Coast Guard Auxiliary, local, state, and federal law enforcement vessels.

Dated: June 9, 2003.
B.M. Salerno,
Captain, Coast Guard, Captain of the Port, Boston, Massachusetts.

[FR Doc. 03-16967 Filed 7-3-03; 8:45 am]

BILLING CODE 4910-15-U